DEPARTMENT OF LABOR

Employment and Training Administration

[TA-W-40,827]

Argus International, Inc., Including Leased Workers of ADP Total Source, Medley, FL; Amended Certification Regarding Eligibility To Apply for Worker Adjustment Assistance

In accordance with Section 223 of the Trade Act of 1974 (19 U.S.C. 2273) the U.S. Department of Labor issued a Certification of Eligibility to Apply for Worker Adjustment Assistance on May 2, 2002, applicable to workers of Argus International, Inc., Medley, Florida. The notice was published in the Federal Register on May 17, 2002 (67 FR 35143).

At the request of the State agency, the Department reviewed the certification for workers of the subject firm. Information provided by the State shows that leased workers of ADP Total Source were employed at Argus International, Inc. to produce ladies', men's and children's apparel at the Medley, Florida location of the subject firm.

Based on these findings, the Department is amending the certification to include leased workers of ADP Total Source producing ladies', men's and children's apparel at the Medley, Florida location of the subject firm.

The intent of the Department's certification is to include all workers of Argus International, Inc. who were adversely affected by increased imports.

The amended notice applicable to TA-W-40,827 is hereby issued as follows:

All workers of Argus International, Inc., Medley, Florida, including leased workers of ADP Total Source engaged in employment related to the production of ladies', men's and children's apparel at Argus International, Inc., Medley, Florida, who became totally or partially separated from employment on or after January 7, 2001, through May 2, 2004, are eligible to apply for adjustment assistance under Section 223 of the Trade Act of 1974.

Signed at Washington DC this 25th day of July, 2002.
Edward A. Tomchick,
Director, Division of Trade Adjustment Assistance.

[FR Doc. 02-20195 Filed 8-8-02; 8:45 am]

BILLING CODE 4510-30-P